DEPARTMENT OF HOMELAND SECURITY

Coast Guard

[Docket No. USCG-2023-0583]

National Merchant Mariner Medical Advisory Committee; September 2023 Virtual Meetings

AGENCY: U.S. Coast Guard, Department of Homeland Security.

ACTION: Notice of Federal Advisory Committee virtual meeting.

SUMMARY: The National Merchant Mariner Medical Advisory Committee (Committee) will conduct virtual meetings over a series of 2 days to discuss matters relating to medical certification determinations for issuance of licenses, certificates of registry, and merchant mariners' documents, medical standards, and guidelines for the physical qualifications of operators of commercial vessels, medical examiner education, and medical research. The Subcommittee on proposed Task Statement 23-X1—Directed Review of the Merchant Mariner Medical Manual will also meet on Day 1. These virtual meetings will be open to the public.

DATES: Meetings: The Committee and one of its Subcommittees will meet virtually on Tuesday, September 12, 2023, from 10 a.m. until 3 p.m. Eastern Daylight Time, (EDT), and Wednesday, September 13, 2023, from 10 a.m. until 2:15 p.m. EDT. The virtual meetings may adjourn early if the Committee has completed its business.

Comments and supporting documentation: To ensure your comments are received by Committee members before the virtual meetings, submit your written comments no later than September 5, 2023.

ADDRESSES: To join the virtual meetings or to request special accommodations, contact the individual listed in the FOR FURTHER INFORMATION CONTACT section no later than 1 p.m. EDT on September 5, 2023, to obtain the needed information. The number of virtual lines is limited and will be available on a first-come, first-served basis.

The Committee is committed to ensuring all participants have equal access regardless of disability status. If you require reasonable accommodation due to a disability to fully participate, please email Ms. Pamela Moore at pamela.j.moore@uscg.mil as soon as possible.

Instructions: You are free to submit comments at any time, including orally at the virtual meetings as time permits, but if you want Committee members to review your comments before the virtual meetings, please submit your comments no later than September 5, 2023. We are particularly interested in comments on the topics in the “Agenda” section below. We encourage you to submit comments through the Federal eRulemaking Portal at https://www.regulations.gov. If your material cannot be submitted using https://www.regulations.gov, email the individual in the FOR FURTHER INFORMATION CONTACT section of this document for alternate instructions. You must include the docket number USCG-2023-0583. Comments received will be posted without alteration at http://www.regulations.gov, including any personal information provided. You may wish to review the Privacy and Security Notice found via link on the homepage of https://www.regulations.gov. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Ms. Pamela Moore, Alternate Designated Federal Officer of the National Merchant Mariner Medical Advisory Committee, telephone 202-372-1361 or email pamela.j.moore@uscg.mil.

SUPPLEMENTARY INFORMATION: Notice of these meetings is in compliance with the Federal Advisory Committee Act (Pub. L. 117-286, 5 U.S.C. ch. 10). The National Merchant Mariner Medical Advisory Committee is authorized by section 601 of the Frank LoBiondo Coast Guard Authorization Act of 2018 (Pub. L. 115-282, 132 Stat. 4192) and is codified in 46 U.S.C. 15104. The Committee operates under the provisions of the Federal Advisory Committee Act and 46 U.S.C section 15109. The Committee advises the Secretary of Homeland Security through the Commandant of the United States Coast Guard on matters relating to: (a) medical certification determinations for issuance of licenses, certificates of registry, and merchant mariners' documents; (b) medical standards and guidelines for the physical qualifications of operators of commercial vessels; (c) medical examiner education; and (d) medical research.

Agenda: The National Merchant Mariner Medical Advisory Committee will meet on Tuesday, September 12, 2023, and Wednesday, September 13, 2023, to review, discuss, deliberate, and formulate recommendations, as appropriate on the following topics. The Subcommittee on proposed Task Statement 23-X1—Directed Review of the Merchant Mariner Medical Manual will also meet on Day 1. Officer elections will be held on Day 2.

DAY 1

The agenda for the September 12, 2023, virtual meeting is as follows:

(1) The full Committee will meet briefly to discuss the Subcommittee Business and task statement, which is listed under paragraph (6) under Day 2 below.

(2) The Subcommittee will then separately address and work on Task Statement 23-X1, Directed Review of the Merchant Mariner Medical Manual.

(3) Report of the Subcommittee. At the end of the day, the Chair of the Subcommittee will report to the full Committee on what was accomplished. The full Committee will not take action on this date and the Subcommittee will present a full report to the Committee on Day 2 of the meeting.

(4) Adjournment of meeting.

DAY 2

The agenda for the September 13, 2023, virtual meeting is as follows:

(1) Introduction.

(2) Designated Federal Officer Remarks.

(3) Remarks from U.S. Coast Guard Leadership.

(4) Roll call of Committee members and determination of a quorum.

(5) Election of Chair and Vice Chair.

(5) Acceptance of Minutes from NMEDMAC Meeting 4.

(6) Presentation of Task: Task Statement 23-X1, Directed Review of the Merchant Mariner Medical Manual.

(7) U.S. Coast Guard Presentations.

(8) Presentations from Subcommittee Chairs.

The Committee will review the information presented on the following issues and deliberate on recommendations presented by the Subcommittee Chairs, approve and formulate recommendations and close any completed tasks. Official action on these recommendations may be taken:

(a) Task Statement 21-01, Recommendations on Mariner Mental Health;

(b) Task Statement 21-02, Communication Between External

Stakeholders and the Mariner Credentialing Program;

(c) Task Statement 21-03, Medical Certifications for Military to Mariner Applicants;

(d) Task Statement 21-04, Recommendations on Appropriate Diets and Wellness for Mariners While Onboard Merchant Vessels;

(e) Task Statement 21-06, Review of Medical Regulations and Policy to Identify Potential Barriers to Women in the U.S. Maritime Workforce;

(f) Task Statement 22-01, Sexual Assault and Sexual Harassment Prevention and Culture Change in the Merchant Marine; and

(g) Task Statement 23-X1, Directed Review of the Merchant Mariner Medical Manual.

(9) Public comment period.

(10) Closing remarks.

(11) Adjournment of meeting.

A copy of all meeting documentation will be available at https://homeport.uscg.mil/missions/federal-advisory-committees/national-merchant-mariner-medical-advisory-committee-(nmedmac) no later than September 5, 2023. Alternatively, you may contact the individual noted in the FOR FURTHER INFORMATION section above.

During the September 13, 2023, virtual meeting, a public comment period will be held immediately after the Presentation of Subcommittee Reports and Recommendations, at approximately 1:30 p.m. EDT. Public comments will be limited to 3 minutes per speaker. Please note that the public comments period will end following the last call for comments. Please contact the individual listed in the FOR FURTHER INFORMATION CONTACT section to register as a speaker.

Dated: August 8, 2023.
Jeffrey G. Lantz,
Director of Commercial Regulations and Standards.

[FR Doc. 2023-17516 Filed 8-15-23; 8:45 am]

BILLING CODE 9110-04-P